DEPARTMENT OF COMMERCE

Patent and Trademark Office

37 CFR Parts 2 and 7

[Docket No. 2004-T-037]

RIN 0651-AB78

New Mailing Addresses for Paper Submissions of Trademark-Related Correspondence and Madrid Protocol Rules Change

AGENCY: United States Patent and Trademark Office, Commerce.

ACTIONS: Final rule; correction.

SUMMARY: The United States Patent and Trademark Office (“Office”) published a final rule in the Federal Register of September 24, 2004, setting forth new mailing addresses for trademark-related correspondence submitted on paper and amending some of the rules governing submissions of documents pursuant to the Protocol Relating to the Madrid Agreement Concerning the International Registrations of Marks (“Madrid Protocol”) in the United States. This document corrects the omission of a new address for general trademark-related correspondence delivered by hand or courier. This document also clarifies the new address for hand-delivered trademark-related correspondence pursuant to the Madrid Protocol to make it easier for trademark customers to find the location on the Office's new campus.

DATES: Effective November 1, 2004.

FOR FURTHER INFORMATION CONTACT: Cheryl L. Black, Office of the Commissioner for Trademarks, by telephone at (703) 308-8910, ext. 153, or by e-mail to cheryl.black@uspto.gov.

SUPPLEMENTARY INFORMATION: The United States Patent and Trademark Office (“Office”) published in the Federal Register of September 24, 2004, (69 FR 57181) a final rule setting forth new mailing addresses for trademark-related correspondence submitted on paper in part 2 of 37 CFR and amending some of the rules governing submissions of documents pursuant to the Protocol Relating to the Madrid Agreement Concerning the International Registrations of Marks (“Madrid Protocol”) in the United States in part 7 of 37 CFR. The changes to the rules set forth the new address for hand deliveries of trademark-related filings pursuant to the Madrid Protocol in § 7.4. The Office, however, inadvertently omitted that same new address, which should be used for all other trademark-related correspondence delivered by hand or courier, from § 2.190. This document corrects a typographical error in the zip code for that address in the final rule. This document also adds the new address for hand and courier deliveries to § 2.190 and clarifies the address in § 7.4 to make it easier for customers delivering trademark-related correspondence pursuant to the Madrid Protocol by hand or courier to find the location on the Office's new campus.

List of Subjects

37 CFR Part 2

Administrative practice and procedure, Trademarks.

37 CFR Part 7

Administrative practice and procedure, Trademarks.

The Office is correcting parts 2 and 7 of title 37 as follows:

PART 2—RULES OF PRACTICE IN TRADEMARK CASES

1. The authority citation continues to read as follows:

Authority: 15 U.S.C. 1123, 35 U.S.C. 2, unless otherwise noted.

2. Amend § 2.190 by revising paragraph (a) to read as follows:

§ 2.190 Addresses for trademark correspondence with the United States Patent and Trademark Office.

(a) Trademark correspondence. In general. All trademark-related documents filed on paper, except documents sent to the Assignment Services Division for recordation; requests for copies of trademark documents; and certain documents filed under the Madrid Protocol as specified in paragraph (e) of this section, should be addressed to: Commissioner for Trademarks, P.O. Box 1451, Alexandria, VA 22313-1451. All trademark-related documents may be delivered by hand, during the hours the Office is open to receive correspondence, to the Trademark Assistance Center, James Madison Building—East Wing, Concourse Level, 600 Dulany Street, Alexandria, Virginia 22314.

* * * * *

PART 7—RULES OF PRACTICE IN FILINGS PURSUANT TO THE PROTOCOL RELATING TO THE MADRID AGREEMENT CONCERNING THE INTERNATIONAL REGISTRATION OF MARKS

3. The authority citation continues to read as follows:

Authority: 15 U.S.C. 1123, 35 U.S.C. 2, unless otherwise noted.

4. Revise § 7.4, by revising paragraph (c) to read as follows:

§ 7.4 Receipt of correspondence.

* * * * *

(c) Hand-Delivered Correspondence. International applications under § 7.11, subsequent designations under § 7.21, responses to notices of irregularity under § 7.14, requests to record changes in the International Register under § 7.23 and § 7.24, requests for transformation under § 7.31, and petitions to the Director to review an action of the Office's Madrid Processing Unit, may be delivered by hand during the hours the Office is open to receive correspondence. Madrid-related hand-delivered correspondence must be delivered to the Trademark Assistance Center, James Madison Building—East Wing, Concourse Level, 600 Dulany Street, Alexandria, VA 22314, Attention: MPU.

* * * * *

Dated: October 26, 2004.
Jon W. Dudas,
Under Secretary of Commerce for Intellectual Property and Director of the United States Patent and Trademark Office.

[FR Doc. 04-24311 Filed 10-29-04; 8:45 am]

BILLING CODE 3510-16-P